DEPARTMENT OF TRANSPORTATION

Federal Aviation Administration

14 CFR Part 39

[Docket No. FAA-2007-0284; Directorate Identifier 2004-SW-06-AD]

RIN 2120-AA64

Airworthiness Directives; Sikorsky Aircraft Corporation Model S-61A, S-61D, S-61E, and S-61V Helicopters

AGENCY: Federal Aviation Administration, DOT.

ACTION: Notice of proposed rulemaking (NPRM).

SUMMARY: This document proposes adopting a new airworthiness directive (AD) for the specified Sikorsky Aircraft Corporation (Sikorsky) model helicopters. The AD would require installing an electric chip detector on each engine and an on-board chip detector annunciation system. The AD would also require revising the Rotorcraft Flight Manual (RFM) to add procedures for crew response to the illumination of an on-board chip detector warning light. This AD would also require testing the engine chip detector system at specified intervals. This proposal is prompted by reports of Number 5 engine bearing failures. Failure of the bearing resulted in erratic movement of the high-speed, engine-to-transmission shaft (shaft), an oil leak, an in-flight fire, and an emergency landing. The actions specified by the proposed AD are intended to detect an impending bearing failure, which if undetected and not addressed by appropriate crew action may result in an oil leak, a severed shaft housing, an uncontained in-flight fire, and a subsequent emergency landing.

DATES: Comments must be received on or before February 4, 2008.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Sikorsky Aircraft Corporation, Attn: Manager, Commercial Technical Support, mailstop s581a, 6900 Main Street, Stratford, Connecticut, phone (203) 383-4866, e-mail address tsslibrary@sikorsky.com.

You may examine the comments to this proposed AD in the AD docket on the Internet at http://www.regulations.gov.

FOR FURTHER INFORMATION CONTACT: Kirk Gustafson, Aviation Safety Engineer, Boston Aircraft Certification Office, Engine and Propeller Directorate, 12 New England Executive Park, Burlington, MA 01803, telephone (781) 238-7190, fax (781) 238-7170.

SUPPLEMENTARY INFORMATION:

Comments Invited

We invite you to submit any written data, views, or arguments regarding this proposed AD. Send your comments to the address listed under the caption ADDRESSES. Include the docket number “FAA-2007-0284, Directorate Identifier 2004-SW-06-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for Sikorsky Model S-61A, S-61D, S-61E, and S-61V helicopters with GE CT58 series engines. The AD would require, within 60 days, installing an electric chip detector for the Number 5 bearing in both engines. The AD would also require installing an on-board chip detector annunciation system and revising the Emergency Procedures section of the RFM to add procedures for crew response to the illumination of an on-board chip detector warning light. In addition, the AD would require functional testing of the chip detector system at specified intervals. This proposal is prompted by five reports of bearing failure, which results in an oil leak, uneven rotation of the shaft, failure of the shaft housing, which is part of the fire containment system, and friction. The heat produced by this friction may ignite the leaking oil and result in an uncontained fire. The actions specified by the proposed AD are intended to detect an impending bearing failure, which if undetected and not addressed by appropriate crew action may result in an oil leak, severed shaft housing, an uncontained in-flight fire, and a subsequent emergency landing.

The FAA has reviewed Sikorsky Alert Service Bulletin No. 61B30-15A, Revision A, dated October 20, 2003 (ASB). The Sikorsky ASB describes procedures for installing an engine chip detector system that will provide an “in-cockpit monitoring system” as a means to detect metallic chips if bearing deterioration occurs in either engine. Also, the FAA has reviewed General Electric (GE) Aircraft Engines CT58 Service Bulletin Number 72-0195, dated May 1, 2003 (SB). The GE SB describes procedures for installing an alternate electrical chip detector (either part number 3018T72P01, cannon-type connector, or 3049T42P01, stud-type connector) to the power turbine accessory drive assembly.

This unsafe condition is likely to exist or develop on other helicopters of the same type design. Therefore, the proposed AD would require the following within 60 days:

• Installing an electric chip detector on each engine.

• Installing an on-board chip detector annunciation system.

• Thereafter, before further flight and at specified intervals, performing a functional test of the chip detector system.

• Revising the RFM to add emergency procedures for crew response to the illumination of an on-board chip detector warning light.

The actions would be required to be done following specified portions of the the service bulletins described previously.

The FAA estimates that this proposed AD would affect 7 helicopters of U.S. registry. The proposed actions would take about 81.5 work hours per helicopter to install the engine chip detector and the on-board cockpit annunciation system. The proposed repetitive tests would affect about 7 helicopters and require 6 tests per year and require 1 work hour per test for 10 years of operating service. The average labor rate is $80 per work hour. Required parts would cost about $1,940 per helicopter. Based on these figures, the total cost impact of the proposed AD on U.S. operators would be $92,820 for the entire fleet

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft economic evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Sikorsky Aircraft Corporation: Docket No. FAA-2007-0284; Directorate Identifier No. 2004-SW-06-AD.

Applicability

Model S-61A, S-61D, S-61E, and S-61V helicopters with GE CT 58 series engines installed, certificated in any category.

Compliance

Required within 60 days, unless accomplished previously.

To detect an impending Number 5 engine bearing (bearing) failure, which if undetected and not addressed by appropriate crew action may result in an oil leak, severed shaft housing, an uncontained in-flight fire, and a subsequent emergency landing, do the following:

(a) Remove engine chip detector, part number (P/N) 205T33P01, and install engine chip detector, part number (P/N) 3049T42P01 or 3018T72P01, in the engine power turbine accessory drive assembly of each engine. Install the chip detector by following the Accomplishment Instructions, paragraph 3.B., of General Electric Aircraft Engines CT58 Service Bulletin Number 72-0195, dated May 1, 2003.

Note: This AD neither requires installing GE CT58 engines nor replacing an engine power turbine accessory drive assembly that has a 5/16 inch magnetic plug port and applies only to Sikorsky Model S-61A, S-61D, S-61E, and S-61V helicopters with GE CT58 series engines installed.

(b) Install an on-board engine chip detector annunciation system by following the Accomplishment Instructions, paragraphs 3.B. or 3.C., as appropriate for the different manufacturers of the master warning caution panel, of the Sikorsky Aircraft Corporation Alert Service Bulletin No. 61B30-15A, Revision A, dated October 20, 2003 (Sikorsky ASB).

(c) After doing paragraph (b) of this AD, before further flight, perform a functional test of the engine chip detector system. Repeat the test at intervals not to exceed 150 hours time-in-service. Conduct the tests following the Accomplishment Instructions, paragraph 3.D., of the Sikorsky ASB.

(d) Insert the emergency procedures contained in the Accomplishment Instructions, paragraph 3.E., of the Sikorsky ASB for an on-board engine chip detector warning indicator light into the Emergency Procedures section of the applicable Rotorcraft Flight Manual.

(e) To request a different method of compliance or a different compliance time for this AD, follow the procedures in 14 CFR 39.19. Contact the Boston Aircraft Certification Office, Engine and Propeller Directorate, FAA, for information about previously approved alternative methods of compliance.

(f) This amendment becomes effective on February 4, 2008.

Issued in Fort Worth, Texas, on November 27, 2007.
Mark R. Schilling,
Acting Manager, Rotorcraft Directorate, Aircraft Certification Service.

[FR Doc. E7-23604 Filed 12-5-07; 8:45 am]

BILLING CODE 4910-13-P